DEPARTMENT OF ENERGY

Nuclear Energy Advisory Committee; Meeting

AGENCY: Office of Nuclear Energy, Department of Energy.

ACTION: Notice of cancellation of open meeting.

SUMMARY: On May 26, 2017, the Department of Energy (DOE) published a notice of open meeting, scheduled for June 20, 2017, and request for comment, of the Nuclear Energy Advisory Committee (NEAC). This notice announces the cancellation of this meeting. The rescheduled meeting will be held at a date to be determined (August or September).

DATES: The meeting scheduled for June 20, 2017, announced in the May 26, 2017, issue of the Federal Register (FR Doc. 2017-10877, 82 FR 101), is cancelled.

FOR FURTHER INFORMATION CONTACT: Rob Rova, Designated Federal Officer, U.S. Department of Energy, 1000 Independence Avenue SW., Washington, DC 20585; email: robert.rova@nuclear.energy.gov or phone: 301-903-9096.

Issued at Washington, DC, on June 14, 2017.
LaTanya R. Butler,
Deputy Committee Management Officer.

[FR Doc. 2017-12788 Filed 6-19-17; 8:45 am]

BILLING CODE 6405-01-P